DEPARTMENT OF TRANSPORTATION

Federal Aviation Administration

User Input to the Aviation Weather Technology Transfer (AWTT) Board

AGENCY: Federal Aviation Administration (FAA), Department of Transportation (DOT).

ACTION: Notice of public meeting.

SUMMARY: The FAA will hold an informal public meeting to seek aviation weather user input. Details: November 14, 2001; TRW, 475 School Street, Washington, D.C., 20024; 1:00 PM to 4:00 PM in Conference Room B. The objective of this meeting is to provide an opportunity for interested aviation weather users to provide input on FAA's plans for implementing new weather products. This meeting was originally scheduled for September 18, 2001 in New Orleans, LA, was subsequently cancelled, and is now being re-scheduled for the new date.

DATES: The meeting will be held at TRW, 475 School Street, Washington, D.C., 20024 in Conference Room B, Washington, D.C. on November 14, 2001. Times: 1:00-4:00 PM.

FOR FURTHER INFORMATION CONTACT: Debi Bacon, Aerospace Weather Policy Division, ARS09100, Federal Aviation Administration, 800 Independence Ave., S.W., Washington, D.C. 20591; telephone number (202) 385097705; Fax: (202) 385097701; email: debi.bacon@faa.gov. Internet address: http://www.debi.bacon@faa.gov.

SUPPLEMENTARY INFORMATION:

History

In 1999, the FAA established an Aviation Weather Technology Transfer (AWTT) Board to manage the orderly transfer of weather capabilities and products from research and development into operations. The Director of the Aerospace Weather Policy and Standards Staff, ARS0920, chairs the AWTT Board. The Board is composed of stakeholders in Air Traffic Services, ATS; Regulation and Certification, AVR; and Research and Acquisitions, ARA in the Federal Aviation Administration and the Office of Meteorology in the National Weather Service.

The AWTT Board will meet semi-annually or as needed, to determine the readiness of weather research and development (R&D) products for experimental use, full operational use for experts or full operational use for end users. The Board's determinations will be based upon criteria in the following areas: users needs; benefits; costs; risks; technical readiness; operational readiness and budget requirements.

The user interface process is designed to allow FAA to both report progress and receive feedback from industry users. Each AWTT Board meeting will be preceded by a half-day industry review session approximately one month prior to each Board meeting. These industry review sessions will be announced in the Federal Register and open to all interested parties.

This meeting is the second industry review session and is intended to receive feedback on weather R&D products that will be presented for consideration at the December 2001 AWTT Board meeting. The products to be considered are the Integrated Icing Diagnosis Algorithm (IIDA) and the Integrated Icing Forecast Algorithm (IIFA).

Meeting Procedures

(a) The meeting will be informal in nature and will be conducted by representatives of the FAA Headquarters.

(b) The meeting will be open to all persons on a space-available basis. Every effort was made to provide a meeting site with sufficient seating capacity for the expected participation. There will be neither admission fee nor other charge to attend and participate.

(c) FAA personnel present will conduct a briefing on how the AWTT system works and changes to the process made in the last year. Any person will be allowed to ask questions during the presentation and FAA personnel will clarify any part of the process that is not clear.

(d) FAA personnel will present a briefing on the specific products to be reviewed at the December 2001 AWTT Board Meeting. Any person will be allowed to ask questions during the presentation and FAA personnel will clarify any part of the presentation that is not clear.

(e) Any person present may give feedback on the products to be presented. Feedback on the proposed products will be captured through discussion between FAA personnel and any persons attending the meeting. The meeting will not be formally recorded. However, informal tape recordings may be made of the presentation to ensure that each respondent's comments are noted accurately.

(f) An official verbatim transcript or minutes of the informal meeting will not be made. However, a list of the attendees, a digest of discussion during the meeting and an action item list will be produced. Any person attending may receive a copy of the written information upon request to the information contact, above.

(g) Every reasonable effort will be made to hear each person's feedback consistent with a reasonable closing time for the meeting. Written feedback may also be submitted to FAA personnel for up to seven (7) days after the close of the meeting.

Agenda

(a) Opening Remarks and Discussion of Meeting Procedures

(b) Briefing on AWTT Process

(c) Briefing on Weather Products

(d) Request for User Input

(e) Closing Comments

Issued in Washington, DC, on October 3, 2001.
Frances Sherertz,
Deputy Director, Aerospace Weather Policy and Standards Staff.

[FR Doc. 01-25089 Filed 10-9-01; 8:45 am]

BILLING CODE 4910-13-M